GOVERNMENT ACCOUNTABILITY OFFICE

Request for Health Information Technology Advisory Committee (HITAC) Nominations

AGENCY: U.S. Government Accountability Office (GAO).

ACTION: Request for letters of nomination and resumes.

SUMMARY: The 21st Century Cures Act established HITAC to provide recommendations to the National Coordinator for Health Information Technology on policies, standards, implementation specifications, and certification criteria relating to the implementation of a health information technology infrastructure that advances the electronic access, exchange, and use of health information. The Act gave the Comptroller General of the United States responsibility for appointing a portion of HITAC's members. The Act requires that members at least reflect providers, ancillary health care workers, consumers, purchasers, health plans, health information technology developers, researchers, patients, relevant Federal agencies, and individuals with technical expertise on health care quality, system functions, privacy, security, and on the electronic exchange and use of health information, including the use standards for such activity. GAO is now accepting nominations for HITAC appointments that will be effective January 1, 2022. From these nominations, GAO expects to appoint at least 5 new HITAC members, focusing especially on health care providers, ancillary health care workers, health information technology developers, and patient advocates. Nominations should be sent to the email address listed below. Acknowledgement of submissions will be provided within a week of submission.

DATES: Letters of nomination and resumes should be submitted no later than August 24, 2021, to ensure adequate opportunity for review and consideration of nominees prior to appointment.

ADDRESSES: Submit letters of nomination and resumes to HITCommittee@gao.gov.

FOR FURTHER INFORMATION CONTACT: Shannon Legeer at (202) 512-3197 or legeers@gao.gov if you do not receive an acknowledgment or need additional information. For general information, contact GAO's Office of Public Affairs, (202) 512-4800.

Authority: Pub. L. 114-255, sec. 4003(e) (2016), 42 U.S.C. 300jj-12.

Gene L. Dodaro,
Comptroller General of the United States.

[FR Doc. 2021-15136 Filed 7-16-21; 8:45 am]

BILLING CODE 1610-02-P